POSTAL REGULATORY COMMISSION

[Docket No. CP2011-60; Order No. 679]

New Regional Ground Service for Parcels

AGENCY: Postal Regulatory Commission.

ACTION: Notice.

SUMMARY: The Commission is noticing a recently-filed Postal Service notice of rate and classification changes affecting Parcel Select. The changes involve a new offering identified as Regional Ground service. This notice informs the public of the filing, addresses preliminary procedural matters, and invites public comment.

DATES: Comments are due: March 2, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION: On February 17, 2011, the Postal Service filed notice with the Commission of changes in rates of general applicability and concomitant classification changes for a competitive product pursuant to 39 CFR 3015.2.¹ The proposed changes establish a new “Regional Ground” price category within the Parcel Select product that is scheduled to go into effect on April 17, 2011.

¹ Notice of the United States Postal Service of Changes in Rates of General Applicability for a Competitive Product, Established in Governors' Decision No. 11-2, February 17, 2011 (Notice).

Regional Ground service targets higher-volume business-to-consumer Parcel Select packages delivered within the first three postal zones (300 miles) from origin. Origin Network Distribution Center and Sectional Center Facility prices are planned for packages up to 5 pounds and up to 0.35 cubic feet. To qualify for this service, a mailer must mail 10,000 Regional Ground pieces per year. The Postal Service includes five attachments with its Notice in support of Regional Ground service.

• Decision of the Governors of the United States Postal Service on Establishment of Rate and Class of General Applicability for Regional Ground Service (Governors' Decision No. 11-2);

• Analysis of Regional Ground Service;

• Certification of Governors' Vote in the Governors' Decision No. 11-2;

• Proposed Mail Classification Schedule language; and

• Application of the United States Postal Service for Non-Public Treatment of Materials. An unredacted copy of certain materials also has been filed with the Commission.

The Commission establishes Docket No. CP2011-60 for consideration of matters related to the proposed Regional Ground price category identified in the Postal Service's Notice.

Interested persons may submit comments on whether the Postal Service's Notice is consistent with the policies of 39 U.S.C. 3632, 3633 and 3642 and 39 CFR 3015 and 3020. Comments are due no later than March 2, 2011. The Postal Service's Notice can be accessed via the Commission's Web site (http://www.prc.gov).

The Commission appoints William C. Miller to serve as Public Representative in the captioned proceeding.

It is ordered:

1. The Commission establishes Docket No. CP2011-60 for consideration of matters raised by the Postal Service's Notice.

2. Comments by interested persons in this proceeding are due no later than March 2, 2011.

3. Pursuant to 39 U.S.C. 505, William C. Miller is appointed to serve as the officer of the Commission (Public Representative) to represent the interests of the general public in this proceeding.

4. The Secretary shall arrange for publication of this order in the Federal Register.

By the Commission.
Shoshana M. Grove,
Secretary.

[FR Doc. 2011-4460 Filed 2-28-11; 8:45 am]

BILLING CODE 7710-FW-P